DEPARTMENT OF TRANSPORTATION

Federal Aviation Administration

14 CFR Part 147

[Docket No.: FAA-2015-3901; Notice No. 15-10]

RIN 2120-AK48

Aviation Maintenance Technician Schools

AGENCY: Federal Aviation Administration (FAA), DOT.

ACTION: Notice of proposed rulemaking (NPRM); extension of comment period.

SUMMARY: This action extends the comment period for an NPRM published on October 2, 2015. In that document, the FAA proposes to amend the regulations governing the curriculum and operations of FAA-certificated Aviation Maintenance Technician Schools. These amendments would modernize and reorganize the required curriculum subjects in the appendices of the current regulations. They would also remove the course content items currently located in the appendices and require that they be placed in each school's operations specifications so they could more easily be amended when necessary. The amendments are needed because the existing curriculums are outdated, do not meet current industry needs, and can be changed only through notice and comment rulemaking. These amendments would ensure that aviation maintenance technician students receive up-to-date foundational training to meet the demanding and consistently changing needs of the aviation industry. This extension is a result of a joint request from Aviation Technical Education Council (ATEC), Aeronautical Repair Station Association (ARSA), Aircraft Owners and Pilots Association (AOPA), Airlines for America (A4A), Aviation Suppliers Association (ASA), Helicopter Association International (HAI), Modification And Replacement Parts Association (MARPA), National Air Carrier Association (NACA), National Air Transport Association (NATA), Regional Airline Association, STEM Education Coalition (STEM), and University Aviation Association (UAA) (collectively, the “Petitioners”).

DATES: The comment period for the notice of proposed rulemaking published on October 2, 2015 (80 FR 59674), is extended. Send comments on or before February 1, 2016.

ADDRESSES: Send comments identified by docket number FAA-2015-3901 using any of the following methods:

• Federal Rulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: For technical questions concerning this action, contact Robert Warren, Aircraft Maintenance Division, Federal Aviation Administration, 800 Independence Avenue SW., Washington, DC 20591; telephone (202) 267-1711; email robert.w.warren@faa.gov. For legal questions concerning this action, contact Edmund Averman, Office of the Chief Counsel (AGC-210), Federal Aviation Administration, 800 Independence Avenue SW., Washington, DC 20591; telephone (202) 267-3147; email Ed.Averman@faa.gov.

SUPPLEMENTARY INFORMATION:

Comments Invited

The FAA continues to invite interested persons to take part in this rulemaking by submitting written comments, data, or views about the NPRM we issued on October 2, 2015 (part 147, Aviation Maintenance Technician Schools (80 FR 59674)(October 2, 2015). The most helpful comments will reference a specific portion of the NPRM, explain the reason for any recommended change, and include supporting data.

Background

On October 2, 2015, the Federal Aviation Administration (FAA) issued Notice No. 15-10, Aviation Maintenance Technician Schools (80 FR 59674) (October 2, 2015) (“NPRM”). The comment period for the NPRM ends on December 31, 2015.

By letter dated October 26, 2015, the Petitioners jointly asked the FAA to extend the NPRM's comment period by 90 days. The Petitioners believe that, with the additional time requested, the aviation industry and its partners in technical education will help the FAA develop a rule that supports schools, aids students at the beginning of a rewarding career, and serves an important growing industry.

The FAA recognizes the NPRM's contents are significant and complex and that a ninety-day comment period may not be sufficient. However, the FAA believes that a 90 day extension, for a total of 180 days, is excessive. We have determined that an additional 30 days will be enough for potential commenters to collect the cost and operational data necessary to provide meaningful comments to the NPRM (for a total of 120 days from October 2, 2015). Absent unusual circumstances, the FAA does not anticipate any further extension of the comment period for this rulemaking.

Extension of Comment Period

In accordance with 14 CFR 11.47(c), the FAA has reviewed the petition submitted by the Petitioners for an extension of the comment period to the NPRM. The FAA finds that the petitioners have a substantive interest in the proposed rule, and that an extension of the comment period for Notice No. 15-10 is consistent with the public interest, and that good cause exists for granting this extension.

Accordingly, the comment period for Notice No. 15-10 is extended until February 1, 2016.

Issued in Washington, DC, on November 16, 2015.
Lirio Liu,
Director, Office of Rulemaking.

[FR Doc. 2015-29505 Filed 11-18-15; 8:45 am]

BILLING CODE 4910-13-P